DEPARTMENT OF DEFENSE

Department of the Navy

Notice of Intent for Naval Air Station Pensacola Land Exchange

AGENCY: Department of the Navy (DoN), Department of Defense (DoD).

ACTION: Notice.

SUMMARY: This notice provides information on the proposed conveyance of approximately 5.2 acres of underutilized land at Naval Air Station (NAS) Pensacola, Special Area Bronson Field, Florida, to Escambia County, a political subdivision of the State of Florida, in exchange for a restrictive easement over approximately 31.15 acres of Escambia County owned land within portions of NAS Pensacola's Accident Potential Zones 1 and 2, which will limit encroachment and constraints on military training, testing, and operations.

DATES: Written objection must be filed no later than May 1, 2025.

ADDRESSES: Submit written objection to NAVFAC Southeast, Real Estate Contracting Officer, Box 30, Bldg. 903, Jacksonville, FL 32212-0030.

FOR FURTHER INFORMATION CONTACT: Mr. Heath Adams, 904-735-8930, Naval Facilities Engineering Systems Command Southeast, Box 30, Bldg. 903, Jacksonville, FL 32212-0030.

SUPPLEMENTARY INFORMATION: Pursuant to the authority of 10 U.S.C. 2684a, the United States of America and its assigns, acting by and through the Department of the Navy, and Escambia County, a political subdivision of the State of Florida, entered into a Multi-Year Agreement (MYA) to acquire long-term real property interests in the vicinity of NAS Pensacola, Florida. The purpose of the MYA is the identification and acquisition of long-term, real property interests to achieve conservation objectives, prevent encroachment and limit incompatible development in the vicinity of NAS Pensacola, including all Navy owned facilities located within the legal jurisdiction of Escambia County, Florida.

10 U.S.C. 2869 provides authority for the Department of the Navy to convey real property to carry out a land acquisition, including the acquisition of all right, title, and interest or a lesser interest in real property, i.e. a restrictive easement, under an agreement entered into under section 10 U.S.C. 2684a to limit encroachments and constraints on military training, testing, and operations. The Navy intends to convey approximately 5.2 acres of underutilized Navy owned property, Tax Parcel ID# 27-2S-31-2202-000-000, to Escambia County in exchange for a restrictive easement interest over approximately 31.15 acres of Escambia County owned property, Tax Parcel ID# 19-3S-31-1400-000-000, located within Accident Potential Zones 1 and 2 of NAS Pensacola, Florida. The Department of the Navy will convey the approximately 5.2 acres to Escambia County via Quitclaim Deed. Escambia County will convey the restrictive easement interest over the approximately 31.15 acres via a restrictive easement, which will limit the type and amount of development, as well as the activities that may be conducted on the land. Both the Quitclaim Deed and the Restrictive Easement will be recorded in the Public Records of Escambia County, Florida.

Authority: 10 U.S.C. 2869.

Dated: April 11, 2024.
R.A. Kennedy,
Lieutenant Commander, Judge Advocate General's Corps, U.S. Navy, Federal Register Liaison Officer.

[FR Doc. 2025-06470 Filed 4-15-25; 8:45 am]

BILLING CODE 3810-FF-P